DEPARTMENT OF COMMERCE

International Trade Administration

Dartmouth College, et al.; Notice of Consolidated Decision on Applications for Duty-Free Entry of Electron Microscopes

This is a decision consolidated pursuant to section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 05-023. Applicant: Dartmouth College, Hanover, NH 03755. Instrument: Electron Microscope, Model Technai G ² 20 U-TWIN with XL30 ESEM FEG. Manufacturer: FEI Company, The Netherlands. Intended Use: See notice at 70 FR 38881, July 6, 2005. Order Date: February 17, 2004.

Docket Number: 05-027. Applicant: Beckman Research Institute of the City of Hope National Medical Center, Duarte, CA 91010. Instrument: Electron Microscope, Model Quanta 200 ESEM. Manufacturer: FEI Company, The Netherlands. Intended Use: See notice at 70 FR 38881, July 6, 2005. Order Date: September 8, 2004.

Docket Number: 05-028. Applicant: University of Wisconsin, Madison, Madison, WI 53706-1544. Instrument: Electron Microscope, Model Technai 12 TWIN. Manufacturer: FEI Company, The Netherlands. Intended Use: See notice at 70 FR 38881, July 6, 2005. Order Date: October 1, 2004.

Comments: None received. Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States either at the time of order of each instrument OR at the time of receipt of application by U.S. Customs and Border Protection.

Gerald A. Zerdy,
Program Manager, Statutory Import Programs Staff.

[FR Doc. E5-4248 Filed 8-5-05; 8:45 am]

BILLING CODE 3510-DS-P